OFFICE OF PERSONNEL MANAGEMENT

General Schedule Locality Pay Areas

AGENCY: Office of Personnel Management.

ACTION: Notice.

SUMMARY: On behalf of the President's Pay Agent, the Office of Personnel Management (OPM) is providing notice about two changes in locality pay area boundaries in 2007 under the locality pay program for General Schedule and certain other employees. Grayson County, TX, will be added to the Dallas locality pay area, and Berks County, PA, will be added to the Philadelphia locality pay area. These changes will occur automatically under existing regulations. OPM also plans to issue a notice later about changes in the regulations needed to update the official descriptions of the Boston-Worcester-Manchester, MA-NH-ME-RI locality pay area and the Denver-Aurora-Boulder, CO locality pay area. As required by OPM regulations, the additions to locality pay areas are effective as of the first pay period beginning on or after January 1, 2007. Both the additions and the planned description changes are the result of changes made by the Office of Management and Budget in Metropolitan Statistical Areas and Combined Statistical Areas.

DATES: The additions to locality pay areas are applicable on the first day of the first pay period beginning on or after January 1, 2007.

FOR FURTHER INFORMATION CONTACT: Allan Hearne, (202) 606-2838; FAX: (202) 606-4264; e-mail: pay-performance-policy@opm.gov.

Section 5304 of title 5, United States Code, authorizes locality pay for General Schedule (GS) employees with duty stations in the contiguous United States and the District of Columbia.

Section 5304(f) of title 5, United States Code, authorizes the President's Pay Agent (the Secretary of Labor, the Director of the Office of Management and Budget (OMB), and the Director of the Office of Personnel Management (OPM) to determine locality pay areas. The boundaries of locality pay areas must be based on appropriate factors, which may include local labor market patterns, commuting patterns, and the practices of other employers. The Pay Agent must give thorough consideration to the views and recommendations of the Federal Salary Council, a body composed of experts in the fields of labor relations and pay policy and representatives of Federal employee organizations. The President appoints the members of the Federal Salary Council, which submits annual recommendations to the President's Pay Agent about the locality pay program.

Based on recommendations of the Federal Salary Council, we use Metropolitan Statistical Area (MSA) and Combined Statistical Area (CSA) definitions established by the Office of Management and Budget as the basis for locality pay area definitions. The definitions of the terms CSA and MSA in section 531.602 of title 5, Code of Federal Regulations, and section 531.609(d) provide that locality pay area definitions change automatically when OMB adds locations to a CSA or MSA. Under the regulations, the changes in locality pay areas resulting from OMB additions to a CSA or MSA go into effect the first pay period beginning on or after January 1, of the following year.

On April 25, 2006, and May 26, 2006, OMB issued bulletins announcing corrections to OMB Bulletin 06-01 updating MSAs and CSAs. The bulletins add the Sherman-Denison, TX MSA to the Dallas-Fort Worth, TX CSA, and the Reading, PA MSA to the Philadelphia-Camden-Vineland, PA-NJ-DE-MD CSA. OMB also added the Providence-New Bedford-Fall River, RI-MA MSA to the Boston-Worcester-Manchester, MA-NH CSA, and the Greeley, CO MSA to the Denver-Aurora-Boulder, CO CSA. The addition to the Dallas CSA will add Grayson County, TX, to the Dallas locality pay area and the addition to the Philadelphia CSA will add Berks County, PA to the Philadelphia locality pay area. These changes will occur automatically under existing regulations. The other changes require corresponding changes in the official designation of the Boston and Denver locality pay areas but do not change the geographic scope of those pay areas because the Providence area is already included in the Boston locality pay area and the Greeley area is already part of the Denver locality pay area under the Pay Agent's rules for areas of application.

Impact and Implementation

The changes in locality pay area boundaries will move an estimated 61 GS employees from the Rest of U.S. (RUS) locality pay area to the Dallas locality pay area and about 187 GS employees from the RUS locality pay area to the Philadelphia locality pay area, at a total cost of about $600,000 per year. The changes become applicable on the first day of the first pay period beginning on or after January 1, 2007.

Office of Personnel Management.
Linda M. Springer,
Director.

[FR Doc. E6-19477 Filed 11-20-06; 8:45 am]

BILLING CODE 6325-39-P